ENVIRONMENTAL PROTECTION AGENCY

40 CFR Part 52

[IN 87-1b; FRL-6527-9]

Approval of Post-1996 Rate of Progress Plan: Indiana

AGENCY: Environmental Protection Agency (EPA).

ACTION: Proposed rule.

SUMMARY: We are proposing to approve Indiana's Post-1996 Rate of Progress Plan for Lake and Porter Counties, Indiana, submitted on December 17, 1997, and January 22, 1998. The Plan identifies volatile organic compound control measures and documents projections that those measures provide 3% per year (9% total) emission reductions in Lake and Porter Counties between 1996 and 1999. Our approval means that EPA finds the State Plan meets Clean Air Act (Act) requirements. In the final rules section of this Federal Register, the EPA is approving the State's request as a direct final rule without prior proposal because EPA views this action as noncontroversial and anticipates no adverse comments. A detailed rationale for approving the State's request is set forth in the direct final rule. The direct final rule will become effective without further notice unless the Agency receives relevant adverse written comment on this action. Should the Agency receive such comment, it will publish a final rule informing the public that the direct final rule will not take effect and such public comment received will be addressed in a subsequent final rule based on this proposed rule. If no adverse written comments are received, the direct final rule will take effect on the date stated in that document and no further activity will be taken on this proposed rule. EPA does not plan to institute a second comment period on this action. Any parties interested in commenting on this action should do so at this time.

DATES: Written comments must be received on or before February 25, 2000.

ADDRESSES: Written comments should be mailed to: J. Elmer Bortzer, Chief, Regulation Development Section, Air Programs Branch (AR-18J), Environmental Protection Agency, Region 5, 77 West Jackson Boulevard, Chicago, Illinois 60604.

Copies of the State submittal are available for inspection at: Regulation Development Section, Air Programs Branch (AR-18J), Environmental Protection Agency, Region 5, 77 West Jackson Boulevard, Chicago, Illinois 60604.

FOR FURTHER INFORMATION CONTACT: Ryan Bahr, Environmental Engineer, Regulation Development Section, Air Programs Branch (AR-18J), Environmental Protection Agency, Region 5, 77 West Jackson Boulevard, Chicago, Illinois 60604, (312) 353-4366.

SUPPLEMENTARY INFORMATION: For additional information see the direct final rule published in the final rules section of this Federal Register.

Dated: January 6, 2000.
Francis X. Lyons,
Regional Administrator, Region 5.

[FR Doc. 00-1559 Filed 1-25-00; 8:45 am]

BILLING CODE 6560-50-P